DEPARTMENT OF COMMERCE

Foreign-Trade Zones Board

Foreign-Trade Zone 50—Long Beach, CA; Site Renumbering Notice

Foreign-Trade Zone 50 was approved by the Foreign-Trade Zones Board on September 14, 1979 (Board Order 147), and expanded on April 2, 1985 (Board Order 298), on March 25, 1987 (Board Order 341), on December 19, 1990 (Board Order 494), on July 16, 1996 (Board Order 833), on January 16, 2001 (Board Order 1141), and on March 11, 2004 (Board Order 1319).

FTZ 50 currently consists of 7 “Sites” totaling some 2,330 acres in the Long Beach/Los Angeles area. The current update does not alter the physical boundaries that have previously been approved, but instead involves an administrative renumbering of the existing sites (with the exception of Sites 4 and 6) to separate unrelated, non-contiguous sites for record-keeping purposes.

Under this revision, the site list for FTZ 50 will be as follows: Site 1 (8 acres)—909 East Colon Street, Wilmington; Site 2 (1,844 acres)—California Commerce Center, Ontario; Site 3 (68 acres)—within the Inter-City Commuter Station Redevelopment area located at 1000 E. Santa Ana Boulevard, Santa Ana; Site 4 (175 acres)—within the 2,300-acre San Bernardino International Airport and Trade Center complex located at 225 North Leland Norton Way (1 acre), 255 South Leland Norton Way (2 acres), Perimeter Road (33 acres), Mill Street (19 acres), Central Avenue (32 acres) and 300 South Tippecanoe Avenue at East Mill Street (88 acres), San Bernardino; Site 5 (5 acres)—10501 and 10509 East Valley Boulevard at Pacific Place, El Monte; Site 6 (50 acres)—former General Dynamics/Hughes facility north of Mission Boulevard between Humane Way and Dudley Street, Pomona; Site 7—(1 acre) at the intersection of San Marino Avenue, Broadway and Clary Avenues, San Gabriel; Site 8 (4 acres)—22941 South Wilmington Avenue, Carson; Site 9 (30 acres)—2560 East Philadelphia Street, Ontario; Site 10 (48 acres)—Ontario Ridge Commerce Center located at 3625 and 3655 East Philadelphia Street and 2055 South Haven Street, Ontario; Site 11 (33 acres)—4100 East Mission Boulevard, Ontario; Site 12 (32 acres)—1661 and 1777 South Vintage Avenue and 1670 Champagne Avenue, Ontario; Site 13 (7 acres)—2530 South Birch Street, Santa Ana; Site 14 (7 acres)—3000 and 3100 Segerstrom Avenue, Santa Ana; Site 15 (9 acres)—2900 and 2930 South Fairview Street, Santa Ana; Site 16 (1 acre)—3630 West Gary Avenue, Santa Ana; Site 17 (6 acres)—1101 West McKinley Avenue (Buildings 4, 5, 7, 8 & 22); and, Site 18 (2 acres)—at the intersection of Santa Anita and Junipero Serra Streets, San Gabriel.

For further information, contact Christopher Kemp at Christopher.Kemp@trade.gov or (202) 482-0862.

Dated: March 5, 2010.
Andrew McGilvray,
Executive Secretary.

[FR Doc. 2010-5828 Filed 3-16-10; 8:45 am]

BILLING CODE 3510-DS-P